OFFICE OF THE DIRECTOR OF NATIONAL INTELLIGENCE

Office of the Inspector General

Privacy Act of 1974; System of Records

AGENCY: Office of the Inspector General, Office of the Director of National Intelligence.

ACTION: Notice to establish systems of records.

SUMMARY: The Office of the Inspector General (OIG) of the Office of the Director of National Intelligence (ODNI) is establishing several new systems of records subject to the Privacy Act of 1974, as amended, 5 U.S.C. 552a. These systems of records are maintained by the OIG.

DATES: This action will be effective on February 6, 2008, unless comments are received that result in a contrary determination.

ADDRESSES: You may submit comments, identified by [RIN number], by any of the following methods: Federal eRulemaking Portal: http://www.regulations.gov.

Mail: Director, Information Management Office, Office of the Director of National Intelligence, Washington, D.C. 20511.

FOR FURTHER INFORMATION CONTACT: Mr. John F. Hackett, Director, Information Management Office, 703-482-3610.

SUPPLEMENTARY INFORMATION: The Intelligence Reform and Terrorism Prevention Act of 2004 (IRTPA), section 1078, amended the Inspector General Act of 1978 to grant the Director of National Intelligence (DNI) the authority to establish an Office of the Inspector General (OIG) with “any of the powers and responsibilities” set forth in the Inspector General Act of 1978.

On September 7, 2005, by ODNI Instruction 2005-10, the DNI established the OIG to detect and deter waste, fraud, abuse, and misconduct involving the ODNI and Intelligence Community programs and personnel, and to promote economy, efficiency and effectiveness in the ODNI and Intelligence Community operations. The OIG has responsibility for programs and operations internal to the ODNI, as well as responsibilities over community-wide and cross-agency matters that are within the DNI's authorities.

The ODNI OIG has a threefold mission: (i) To perform, on behalf of the DNI, audits, investigations, and inspections of the ODNI and component elements; (ii) to support the DNI's responsibilities under the IRTPA to improve, reform and integrate the activities of the U.S. Intelligence Community as a whole, with particular emphasis on the sharing and dissemination of intelligence information, quality of analysis, joint duty, and effective execution of the budget; and (iii) to identify, develop and lead collaborative projects involving the Inspectors General of the 16 Intelligence Community agencies. Where the systems of records published herewith contain sensitive personnel information or law enforcement or classified information, the DNI is proposing to exempt the systems of records from certain portions of the Privacy Act and to continue in effect exemptions claimed by record source agencies where the reason for the exemption remains valid. As required by the Privacy Act, a proposed rule is being published concurrently with this notice to seek public comment on the proposal to exempt these systems. In accordance with 5 U.S.C. 552a(r), the ODNI has provided a report of this new system of records to the Office of Management and Budget and to Congress.

Dated: December 13, 2007.
John F. Hackett,
Director, Information Management Office.

SYSTEM NAME:

Office of the Inspector General (OIG) Human Resources Records (ODNI/OIG-001).

SECURITY CLASSIFICATION:

The classification of records in this system can range from UNCLASSIFIED to TOP SECRET.

SYSTEM LOCATION:

Office of the Inspector General (OIG), Office of the Director of National Intelligence (ODNI), Washington, DC 20511.

CATEGORIES OF INDIVIDUALS COVERED BY THE SYSTEM:

Current and former OIG staff; military and civilian personnel detailed or assigned to the OIG; and current and former OIG contract employees.

CATEGORIES OF RECORDS IN THE SYSTEM:

Biographic data including name, social security number, residence, emergency contacts, employing organization, employee identification, photographs, training records, skills information, travel records, financial claims information, leave requests and approvals, conduct records, performance records and awards, suitability-related records, medical information, grievance records, other records arising from routine administrative activities.

AUTHORITY FOR MAINTENANCE OF THE SYSTEM:

The Intelligence Reform and Terrorism Prevention Act of 2004, Pub. L. No. 108-458, 118 Stat. 3638 (Dec. 17, 2004); The National Security Act of 1947, as amended, 50 U.S.C. 401-442; Exec. Order No. 13,354, 69 Fed. Reg. 53,589 (2004); Exec. Order No.12,333, 46 Fed. Reg. 59,941 (1981); The Inspector General Act of 1978, as amended, 5 U.S.C. App. 1; ODNI Instruction 2005-10.

PURPOSE(S):

Records in this system enable the OIG to carry out its lawful and authorized responsibilities to administer its workforce; facilitate and expedite processing of employee transactions, including benefits elections and administrative actions; provide management with necessary data for statistical reports; and provide reference to monitor, record, and manage personnel with respect to performance, assignments, training, conduct, time and attendance, administrative claims, and other matters.

ROUTINE USES OF RECORDS MAINTAINED IN THE SYSTEM, INCLUDING CATEGORIES OF USERS AND THE PURPOSES OF SUCH USES:

See General Routine Uses Applicable to More Than One ODNI Privacy Act System of Records, Subpart C of ODNI's Privacy Act Regulation published concurrently with this notice and incorporated by reference (see also: http://www.dni.gov). In addition, the following routine use(s) may apply: a. A record from this system of records maintained by the OIG may be disclosed as a routine use to appropriate personnel within the Office of Personnel Management who have a need to know for purposes relating to the administration of retirement benefits for individuals covered by this system.

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within secure facilities under the control of the Central Intelligence Agency. Paper and other hard-copy records are stored in secured areas within the control of the OIG.

RETRIEVABILITY:

By name, social security number, or other identifier. Information may be retrieved from this System of Records by automated or hand searches based on existing indices and automated capabilities utilized in the normal course of business. Only authorized personnel may search this system.

SAFEGUARDS:

Information in this system is safeguarded in accordance with recommended and/or prescribed administrative, physical, and technical safeguards. Records are stored in a secure government or contractor facility with access to the facility limited to authorized personnel only and authorized and escorted visitors. Physical security protections include guards and locked facilities requiring badges and passwords for access. Paper files are maintained in a locked drawer. Electronic files are maintained in secure, limited-access file-servers. Records are accessed only by authorized government personnel and contractors holding appropriate security clearances and who have a valid business reason to access the records. Communications are encrypted where required and other safeguards are in place to monitor and audit access and to detect intrusions. Backup tapes are maintained in a secure, off-site location.

RETENTION AND DISPOSAL:

Pursuant to 44 U.S.C. 3303a(d) and 36 CFR Chapter 12, Subchapter B, Part 1228—Disposition of Federal Records, records will not be disposed until such time as the National Archives and Records Administration (NARA) approves an applicable ODNI Records Control Schedule.

SYSTEM MANAGER(S) AND ADDRESS:

Executive Officer, Office of the Inspector General, Office of the Director of National Intelligence, Washington, DC 20511.

NOTIFICATION PROCEDURES:

As specified below, records in this system have been exempted from certain notification, access, and amendment procedures. Individuals seeking to learn whether this system contains information about them (“notification”) should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request, and have it verified by a notary public. Alternately, the request may be submitted under 28 U.S.C. 1746, certifying the requester's identity and acknowledging that obtaining records under false pretenses constitutes a criminal offense. Requests for access to information must be addressed to the Director, Information Management Office, Office of the Director of National Intelligence, Washington, DC 20511. Regulations governing access to one's records or for appealing an initial determination concerning access to records are contained in the ODNI regulation implementing the Privacy Act published concurrently with this notice.

CONTESTING RECORD PROCEDURES:

As specified below, records in this system have been exempted from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act published concurrently with this notice.

RECORD SOURCE CATEGORIES:

Human resources data originates from individuals covered by the system, educational institutions, private organizations, federal agencies and other ODNI staff.

Exemptions Claimed For The System:

Records contained within this System of Records may be exempted from the requirements of subsections (c)(3); (d)(1),(2),(3),(4); (e)(1) and (e)(4)(G),(H),(I); and (f) of the Privacy Act, pursuant to 5 U.S.C. 552a (k)(1) and (k)(5). Records may be exempted from these subsections or, additionally, from the requirements of subsections (c)(4);(e)(2),(3),(5),(8),(12) and (g) of the Privacy Act consistent with any exemptions claimed under 5 U.S.C. 552a(j) or (k) by the originator of the record, provided the reason for the exemption remains valid and necessary.

SYSTEM NAME:

Office of the Inspector General (OIG) Experts Contact Records (ODNI/OIG-002).

SECURITY CLASSIFICATION:

The classification of records in this system can range from UNCLASSIFIED to TOP SECRET.

SYSTEM LOCATION:

Office of the Inspector General (OIG), Office of the Director of National Intelligence (ODNI), Washington, DC 20511.

CATEGORIES OF INDIVIDUALS COVERED BY THE SYSTEM:

Governmental and private sector experts, academics, business professionals and other individuals who have served as advisers, consultants or contractors to the ODNI or who are known to have expertise in, or access to information about subjects of interest to the ODNI or other elements of the Intelligence Community (IC), as defined by 401a(4) of the National Security Act, as amended.

CATEGORIES OF RECORDS IN THE SYSTEM:

Biographic information, including contact information and areas of expertise or interest, professional credentials, history of involvement with IC activities, clearances, accesses.

AUTHORITY FOR MAINTENANCE OF THE SYSTEM:

The Intelligence Reform and Terrorism Prevention Act of 2004, Pub. L. 108-458, 118 Stat. 3638 (Dec. 17, 2004); The National Security Act of 1947, as amended, 50 U.S.C. 401-442; Exec.Order No. 13,354, 69 Fed. Reg. 53,589 (2004); Exec. Order No. 12,333, 46 Fed. Reg. 59,941 (1981), The Inspector General Act of 1978, as amended, 5 U.S.C. App.1; ODNI Instruction 2005-10.

PURPOSE(S):

Records in this system facilitate communication by authorized ODNI OIG personnel with governmental, academic or private sector experts who may serve as advisers, consultants or contractors to the ODNI OIG, assisting it to carry out authorized responsibilities overseeing ODNI functions, supporting ODNI's responsibilities with respect to activities of the IC as a whole, and leading collaborative projects involving the IC Inspectors General.

ROUTINE USES OF RECORDS MAINTAINED IN THE SYSTEM, INCLUDING CATEGORIES OF USERS AND THE PURPOSES OF SUCH USES:

See General Routine Uses Applicable to More Than One ODNI Privacy Act System of Records, Subpart C of ODNI's Privacy Act Regulation published concurrently with this notice and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within secure facilities under the control of the Central Intelligence Agency. Paper and other hard-copy records are stored in secured areas within the control of the OIG.

RETRIEVABILITY:

By name, social security number, or other identifier. Information may be retrieved from this System of Records by automated or hand searches based on existing indices and automated capabilities utilized in the normal course of business. Only authorized personnel with a need to know may search this system.

SAFEGUARDS:

Information in this system is safeguarded in accordance with recommended and/or prescribed administrative, physical, and technical safeguards. Records are stored in a secure government or contractor facility with access to the facility limited to authorized personnel only and authorized and escorted visitors. Physical security protections include guards and locked facilities requiring badges and passwords for access. Records are accessed only by authorized government personnel and contractors holding appropriate security clearances and who have a valid business reason to access the records. Communications are encrypted where required and other safeguards are in place to monitor and audit access and to detect intrusions. Backup tapes are maintained in a secure, off-site location.

RETENTION AND DISPOSAL:

Pursuant to 44 U.S.C. 3303a(d) and 36 CFR Chapter 12, Subchapter B, Part 1228-Disposition of Federal Records, records will not be disposed of until such time as the National Archives and Records Administration (NARA) approves an applicable ODNI Records Control Schedule.

SYSTEM MANAGER(S) AND ADDRESS:

Executive Officer, Office of the Inspector General, Office of the Director of National Intelligence, Washington, DC 20511.

NOTIFICATION PROCEDURES:

As specified below, records in this system have been exempted from certain notification, access, and amendment procedures. Individuals seeking to learn whether this system contains information about them (“notification”) should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request, and have it verified by a notary public. Alternately, the request may be submitted under 28 U.S.C. 1746, certifying the requester's identity and acknowledging that obtaining records under false pretenses constitutes a criminal offense. Requests for access to information must be addressed to the Director, Information Management Office, Office of the Director of National Intelligence, Washington, DC 20511. Regulations governing access to one's records or for appealing an initial determination concerning access to records are contained in the ODNI regulation implementing the Privacy Act published concurrently with this notice.

CONTESTING RECORD PROCEDURES:

As specified below, records in this system have been exempted from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act published concurrently with this notice.

RECORD SOURCE CATEGORIES:

Information is obtained directly from subject individuals; from U.S. government personnel; and from the media, libraries, commercial databases and other public sources.

EXEMPTIONS CLAIMED FOR THE SYSTEM:

Records contained within this System of Records may be exempted from the requirements of subsections (c)(3); (d)(1),(2),(3),(4); (e)(1) and (e)(4)(G),(H),(I); and (f) of the Privacy Act, pursuant to 5 U.S.C. 552a (k)(1) and (k)(5). Records may be exempted from these subsections or, additionally, from the requirements of subsections (c)(4);(e)(2),(3),(5),(8),(12) and (g) of the Privacy Act consistent with any exemptions claimed under 5 U.S.C. 552a(j) or (k) by the originator of the record, provided the reason for the exemption remains valid and necessary.

SYSTEM NAME:

Office of Inspector General (OIG) Investigation and Interview Records (ODNI/OIG-003).

SECURITY CLASSIFICATION:

The classification of records in this system can range from UNCLASSIFIED to TOP SECRET.

SYSTEM LOCATION:

Office of the Inspector General (OIG), Office of the Director of National Intelligence (ODNI), Washington, DC 20511.

CATEGORIES OF INDIVIDUALS COVERED BY THE SYSTEM:

Persons who are interviewed by or provide information to the OIG; persons who are the subjects of OIG reviews, inquiries, or investigations; persons involved with matters under investigation by the OIG, and persons who have filed grievances with the OIG or with other elements of the Intelligence Community (IC), as defined by 401a(4) of the National Security Act of 1947, as amended.

CATEGORIES OF RECORDS IN THE SYSTEM:

Reports of interviews, signed statements, correspondence, reports of investigations, forms, cables, internal memoranda of the ODNI and other IC elements, criminal records of individuals covered by the system, and materials relating to employee grievances and other matters of interest to or inspected by the OIG.

AUTHORITY FOR MAINTENANCE OF THE SYSTEM:

The Intelligence Reform and Terrorism Prevention Act of 2004, Pub. L. 108-458, 118 Stat. 3638 (Dec. 17, 2004); The National Security Act of 1947, as amended, 50 U.S.C. 401-442; Exec. Order No. 13,354, 69 Fed. Reg. 53,589 (2004); Exec. Order No. 12,333, 46 Fed. Reg. 59,941 (1981); The Inspector General Act of 1978, as amended, 5 U.S.C. App. 1; ODNI Instruction 2005-10.

PURPOSE(S):

Records in this system detail the OIG's conduct of personnel grievance and misconduct-related investigations.

ROUTINE USES OF RECORDS MAINTAINED IN THE SYSTEM, INCLUDING CATEGORIES OF USERS AND THE PURPOSE OF SUCH USES:

See General Routine Uses Applicable to More Than One ODNI Privacy Act System of Records, Subpart C of ODNI's Privacy Act Regulation published concurrently with this notice and incorporated by reference (see also http://www.dni.gov). In addition, the following routine uses may apply:

a. A record from this system of records maintained by the OIG may be disclosed as a routine use to officials within the IC where the investigation of a grievance, allegation of misconduct or other personnel issue is a matter within their administrative or supervisory responsibility and there is a need to know, or where the data is necessary to conduct management responsibilities including evaluation of current and proposed programs, policies and activities, selected assignments, and requests for awards or promotions.

b. Unclassified records in the system, or unclassified portions thereof, including information identifying individuals covered by the system, may be disclosed as a routine use to the public or to the media for release to the public when the matter under investigation has become public knowledge or the Inspector General determines that such disclosure is necessary to preserve confidence in the integrity of the Inspector General process, or is necessary to publicly demonstrate the accountability of Intelligence Community employees, officers, or individuals covered by the system, unless it is determined that release of the specific information in the context of a particular case would constitute an unwarranted invasion of personal privacy.

c. Records in the system may be disclosed to members of the President's Council on Integrity and Efficiency or the Executive Council on Integrity and Efficiency for peer reviews and the preparation of reports to the President and Congress on the activities of the Inspectors General.

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within secure facilities under the control of the Central Intelligence Agency. Paper records and other hard-copy records are stored in secured areas within the control of the OIG and maintained in separate folders in a locked filing cabinet dedicated exclusively to OIG investigative files.

RETRIEVABILITY:

By name, social security number, or other identifier. Information may be retrieved from this system of records by automated or hand searches based on existing indices, and by automated means utilized in the normal course of business. Only authorized personnel with a need to know may search this system.

SAFEGUARDS:

Information in this system is safeguarded in accordance with recommended and/or prescribed administrative, physical, and technical safeguards. Records are stored in a secure government or contractor facility with access to the facility limited to authorized personnel only and authorized and escorted visitors. Physical security protections include guards and locked facilities requiring badges and passwords for access. Paper files are maintained in a locked file cabinet. Electronic files are maintained in secure, limited-access file-servers. Records are accessed only by authorized government personnel and contractors holding appropriate security clearances and who have a valid investigative or business reason to access the records. Communications are encrypted where required and other safeguards are in place to monitor and audit access and to detect intrusions. Backup tapes are maintained in a secure, off-site location.

RETENTION AND DISPOSAL:

Pursuant to 44 U.S.C. 3303a(d) and 36 CFR Chapter 12, Subchapter B, Part 1228-Disposition of Federal Records, records will not be disposed of until such time as the National Archives and Records Administration (NARA) approves an applicable ODNI Records Control Schedule.

SYSTEM MANAGER(S) AND ADDRESS:

Executive Officer, Office of the Inspector General, Office of the Director of National Intelligence, Washington, DC 20511.

NOTIFICATION PROCEDURES:

As specified below, records in this system have been exempted from certain notification, access, and amendment procedures. Individuals seeking to learn whether this system contains information about them (“notification”) should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request, and have it verified by a notary public. Alternately, the request may be submitted under 28 U.S.C. 1746, certifying the requester's identity and acknowledging that obtaining records under false pretenses constitutes a criminal offense. Requests for access to information must be addressed to the Director, Information Management Office, Office of the Director of National Intelligence, Washington, DC 20511. Regulations governing access to one's records or for appealing an initial determination concerning access to records are contained in the ODNI regulation implementing the Privacy Act published concurrently with this notice.

CONTESTING RECORD PROCEDURES:

As specified below, records in this system have been exempted from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act published concurrently with this notice.

RECORD SOURCE CATEGORIES:

Information is obtained from federal, state, local and foreign government entities, as well as from individuals, including U.S. citizens and foreign nationals, pursuant to the authorized activities of investigatory staff of the ODNI, of other IC elements and of federal contractors performing investigatory functions.

EXEMPTIONS CLAIMED FOR THE SYSTEM:

Records in this System of Records pertaining to the enforcement of criminal laws may be exempted from the requirements of subsections (c)(3) and (4); (d)(1),(2),(3),(4); (e)(1),(2),(3),(5),(8); and (g) of the Privacy Act pursuant to 5 U.S.C. 552a(j)(2) as claimed by ODNI or by the originator of the record. Records constituting classified or non-criminal investigatory records may be exempted from the requirements of subsections (c)(3); (d)(1),(2),(3),(4); (e)(1) and (e)(4)(G),(H),(I); and (f) of the Privacy Act pursuant to 5 U.S.C. 552a(k)(1) and (k)(2) as claimed by ODNI or by the originator of the records, provided the reason for the exemption remains valid and necessary.

[FR Doc. E7-25273 Filed 12-27-07; 8:45 am]

BILLING CODE 3910-A7-P-P